DEPARTMENT OF THE INTERIOR

Fish and Wildlife Service

[FWS-R4-ES-2008-N0276; 40120-1112-0000-F2]

Receipt of Application for an Incidental Take Permit for the City Gate Project in Collier County, FL

AGENCY: Fish and Wildlife Service, Interior.

ACTION: Notice.

SUMMARY: Citygate Development, LLC and CG II, LLC (Applicants) request an incidental take permit (ITP) pursuant to section 10(a)(1)(B) of the Endangered Species Act of 1973, as amended (Act) for the take of the red-cockaded woodpecker (Picoides borealis) and the Florida panther (Puma (=Felis) concolor coryi). The Applicants propose to develop 240 acres of occupied red-cockaded woodpecker and Florida panther habitat to construct a mixed-use, nonresidential, commercial/industrial office park complex (Project) in Collier County, Florida. The modification of this habitat is expected to result in incidental take, in the form of harm, of one group of red-cockaded woodpeckers and harassment of the Florida panther. The Applicants' Habitat Conservation Plan (HCP) describes the mitigation and minimization measures proposed to address the effects of the Project on the red-cockaded woodpecker and Florida panther. These measures are outlined in the SUPPLEMENTARY INFORMATION section below.

DATES: Written comments on the ITP application and HCP should be sent to the Southeast Regional Office (see ADDRESSES) and should be received on or before December 16, 2008.

ADDRESSES: Persons wishing to review the ITP application, Environmental Assessment (EA), and HCP may obtain a copy by writing the Service's Southeast Regional Office. Please reference permit number TE145823-0 in such requests. Documents will also be available for public inspection by appointment during normal business hours at the Regional Office, 1875 Century Boulevard, Suite 200, Atlanta, Georgia 30345, or Field Supervisor, South Florida Ecological Services Office, U.S. Fish and Wildlife Service, 1339 20th Street, Vero Beach, Florida 32960-3559.

FOR FURTHER INFORMATION CONTACT: Mr. David Dell, Regional Permit Coordinator (see ADDRESSES), telephone: 404/679-7313; or George Dennis, Ecologist, South Florida Ecological Services Office (see ADDRESSES), telephone: 772/562-3909 ext. 309.

SUPPLEMENTARY INFORMATION: If you wish to comment, you may submit comments by any one of several methods. Please reference permit application number TE145823-0 in such comments. You may mail comments to the Service's Regional Office (see ADDRESSES). You may also comment via the internet to david_dell@fws.gov. Please include your name and return address in your Internet message. If you do not receive a confirmation from the Service that we have received your Internet message, contact us directly at either telephone number listed above (see FOR FURTHER INFORMATION CONTACT). Finally, you may hand deliver comments to either Service office listed above (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The red-cockaded woodpecker is the only North American woodpecker that excavates its roost and nest cavities in living trees. It is nonmigratory, territorial, and lives in cooperative breeding social units, usually comprising two to six birds, called groups. Nest and roost cavities are almost always excavated in old-age living pines. In south Florida, hydric slash pine flatwoods provide the preferred nesting and foraging habitat for red-cockaded woodpeckers. The most recent surveys estimate the rangewide population of the red-cockaded woodpecker at 4,919 active groups. The estimated breeding population of the red-cockaded woodpecker in Florida is 1,500 groups, with about 75 percent occurring in the Florida Panhandle.

The Florida panther is the last subspecies of Puma still surviving in the eastern United States. Historically occurring throughout the southeastern United States, today the Florida panther is restricted to less than 5 percent of its historical range in one breeding population of approximately 100 animals, located in south Florida. Florida panthers are wide ranging, secretive, and occur at low densities. They require large contiguous areas to meet their social, reproductive, and energetic needs.

Limiting factors for the Florida panther are habitat availability, prey availability, and lack of human tolerance. Habitat loss, degradation, and fragmentation are among the greatest threats to Florida panther survival, while lack of human tolerance is one of the greatest threats to Florida panther recovery.

The Project proposes construction of a mixed-use, nonresidential, commercial/industrial office park complex that will substantially modify 240 acres comprising primarily pine flatwoods, and will result in take in the form of harm to red-cockaded woodpecker and harassment of the Florida panther, incidental to the carrying out of these otherwise lawful activities. Habitat alteration associated with the proposed development activities will reduce the availability of nesting, foraging, and sheltering habitat for one group of red-cockaded woodpecker. In addition, the loss of this habitat may result in take in the form of harassment of Florida panthers. The Applicants propose to mitigate take of red-cockaded woodpeckers by acquiring, preserving, restoring, and managing in perpetuity 102 acres of occupied habitat. In addition, 336 acres of red-cockaded woodpecker habitat at another site in south Florida will be restored and four recruitment groups established. Subadult red-cockaded woodpeckers fledged in the Project area will be translocated to the recruitment clusters for 3 consecutive years. After 3 years the remaining adult red-cockaded woodpeckers will be translocated to the established recruitment clusters.

The acquired 102 acres and restored habitat within the red-cockaded woodpecker recruitment site will benefit the Florida panther through further habitat protection and enhancement. In addition the Applicants will partially fund a study to identify wildlife crossing sites to reduce Florida panther vehicular mortality in Collier County. Finally, the Applicants will construct a Florida panther wildlife crossing along County Road 846 in the Okaloacoochee Slough at a location known for high Florida panther vehicular mortality.

The Service has made a preliminary determination that the issuance of the ITP is not a major Federal action significantly affecting the quality of the human environment within the meaning of section 102(2)(C) of the National Environmental Policy Act (NEPA). This preliminary information may be revised due to public comment received in response to this notice and is based on information contained in the EA and HCP.

The Service will evaluate the HCP and comments submitted thereon to determine whether the application meets the requirements of section 10(a) of the Act (16 U.S.C. 1531 et seq.). If it is determined that those requirements are met, the ITP will be issued for incidental take of the red-cockaded woodpecker and Florida panther. The Service will also evaluate whether issuance of the section 10(a)(1)(B) ITP complies with section 7 of the Act by conducting an intra-Service section 7 consultation. The results of this consultation, in combination with the above findings, will be used in the final analysis to determine whether or not to issue the ITP. This notice is provided pursuant to section 10 of the Endangered Species Act and NEPA regulations (40 CFR 1506.6).

Dated: September 26, 2008.
Sam D. Hamilton,
Regional Director.

[FR Doc. E8-24770 Filed 10-16-08; 8:45 am]

BILLING CODE 4310-55-P